DEPARTMENT OF TRANSPORTATION

Federal Railroad Administration

[Docket Number FRA-2005-21180]

Notice of Application for Approval of Discontinuance or Modification of a Railroad Signal System or Relief From the Requirements of Title 49 Code of Federal Regulations Part 236

Pursuant to Title 49 Code of Federal Regulations (CFR) part 235 and 49 U.S.C. 20502(a), the following railroad has petitioned the Federal Railroad Administration (FRA) seeking approval for the discontinuance or modification of the signal system or relief from the requirements of 49 CFR part 236 as detailed below.

Applicant: CSX Transportation, Incorporated, Mr. N. Michael Choat, Chief Engineer, Communications and Signal, 4901 Belfort Road, Suite 130, Jacksonville, Florida 32256.

CSX Transportation, Incorporated seeks approval of the proposed modification of the traffic control system, on the two main tracks and sidings, between CP Crown Hill, milepost CA 433.7, near Cabin Creek, West Virginia and CP 461, milepost CA 461.0, near Charleston, West Virginia, on the Huntington Division East, Kanawha Subdivision, associated with a major pole line elimination and signal rationalization project. The proposed changes consist of the following:

1. At CP Crown Hill, milepost 433.7, discontinuance and removal of the four controlled absolute holdout signals;

2. At CP EE Cabin Creek, milepost CA 438.0, conversion of the No. 1 power-operated switch to hand operation, and relocation of the governing eastbound absolute signal eastward;

3. At CP Chesapeake, milepost CA 441.5, discontinuance and removal of the four controlled absolute holdout signals;

4. At mileposts CA 443.6 and CA 443.9, discontinuance and removal of the two dwarf signals governing train movements from the hand-operated switches, and designation of the switches as non clearing;

5. At CP Marmet, milepost CA 444.5, discontinuance and removal of the four controlled absolute holdout signals;

6. At CP 447, milepost CA 447.4, discontinuance and removal of the four controlled absolute holdout signals;

7. At CP Elk, milepost CA 455.6, conversion of the power-operated crossover to hand operation, removal of the governing absolute signals, and installation of a dwarf signal to govern cleared movements onto the main track;

8. At CP South Charleston, milepost CA 457.0, discontinuance and removal of switching signals 26R and 28L, and removal of the electric lock from the hand-operated switch at milepost CA 457.7, retaining the existing dwarf signal to govern train movements over the switch;

9. At CP 461, milepost CA 461.0, discontinuance and removal of the four controlled absolute holdout signals;

The reason given for the proposed changes is to eliminate facilities no longer needed in present day operation.

Any interested party desiring to protest the granting of an application shall set forth specifically the grounds upon which the protest is made, and include a concise statement of the interest of the party in the proceeding. Additionally, one copy of the protest shall be furnished to the applicant at the address listed above.

All communications concerning this proceeding should be identified by the docket number and must be submitted to the Docket Clerk, DOT Central Docket Management Facility, Room PL-401 (Plaza Level), 400 7th Street, SW., Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC on May 24, 2005.
Grady C. Cothen, Jr.,
Deputy Associate Administrator for Safety Standards and Program Development.

[FR Doc. 05-10698 Filed 5-27-05; 8:45 am]

BILLING CODE 4910-06-P